DEPARTMENT OF THE TREASURY

Internal Revenue Service

26 CFR Part 1

[REG-104554-18 and REG-104870-18]

RIN 1545-BO68 and 1545-BO78

Taxable Year of Income Inclusion Under an Accrual Method of Accounting; and Advanced Payments for Goods, Services, and Other Items; Hearing

AGENCY: Internal Revenue Service (IRS), Treasury.

ACTION: Proposed rule; notice of hearing.

SUMMARY: This document provides a notice of public hearing on proposed regulations regarding the timing of income inclusion under section 451 of the Internal Revenue Code.

DATES: The public hearing is being held on Tuesday, December 10, 2019, at 10:00 a.m. The IRS must receive speakers' outlines of the topics to be discussed at the public hearing by Tuesday, December 10, 2019. If no outlines are received by December 3, 2019, the public hearing will be cancelled.

ADDRESSES: The public hearing is being held in the IRS Auditorium, Internal Revenue Service Building, 1111 Constitution Avenue NW, Washington, DC 20224. Due to building security procedures, visitors must enter at the Constitution Avenue entrance. In addition, all visitors must present a valid photo identification to enter the building.

Send Submissions to CC:PA:LPD:PR (REG-104554-18 and REG-104870-18), Room 5205, Internal Revenue Service, P.O. Box 7604, Ben Franklin Station, Washington, DC 20044. Submissions may be hand-delivered Monday through Friday to CC:PA:LPD:PR (REG-104554-18 and REG-104870-18), Couriers Desk, Internal Revenue Service, 1111 Constitution Avenue NW, Washington, DC 20224 or sent electronically via the Federal eRulemaking Portal at www.regulations.gov (IRS REG-104554-18 and REG-104870-18).

FOR FURTHER INFORMATION CONTACT: Concerning the regulations, Charles Gorham, (202) 317-5091; concerning submissions of comments, the hearing and/or to be placed on the building access list to attend the hearing, Regina Johnson at (202) 317-6901 (not toll-free numbers), fdms.database@irscounsel.treas.gov.

SUPPLEMENTARY INFORMATION: The subject of the public hearing is the notice of proposed rulemaking (REG-104554-18 and REG-104870-18) that was published in the Federal Register on Monday, September 9, 2019 (84 FR 47175 and 47191).

The rules of 26 CFR 601.601(a)(3) apply to the hearing. Persons who wish to present oral comments at the hearing that submitted written comments by November 8, 2019, must submit an outline of the topics to be addressed and the amount of time to be devoted to each topic by Tuesday, December 3, 2019.

A period of 10 minutes is allotted to each person for presenting oral comments. After the deadline for receiving outlines has passed, the IRS will prepare an agenda containing the schedule of speakers. Copies of the agenda will be made available, free of charge, at the hearing or by contacting the Publications and Regulations Branch at (202) 317-6901 (not a toll-free number).

Because of access restrictions, the IRS will not admit visitors beyond the immediate entrance area more than 30 minutes before the hearing starts. For information about having your name placed on the building access list to attend the hearing, see the FOR FURTHER INFORMATION CONTACT section of this document.

Martin V. Franks,
Branch Chief, Publications and Regulations Branch, Legal Processing Division, Associate Chief Counsel, (Procedure and Administration).

[FR Doc. 2019-25161 Filed 11-20-19; 8:45 am]

BILLING CODE 4830-01-P